DEPARTMENT OF LABOR

Employment and Training Administration

[TA-W-72,565]

Robert Bosch LLC, Including On-Site Leased Workers From Bosch Management Services North America, South Haven Community Hospital, Huffmaster Inc., and Williamson Employment Services St. Joseph, MI; Amended Certification Regarding Eligibility To Apply for Worker Adjustment Assistance

In accordance with Section 223 of the Trade Act of 1974, as amended (“Act”), 19 U.S.C. 2273, the Department of Labor issued a Certification of Eligibility to Apply for Worker Adjustment Assistance on February 24, 2010, applicable to workers of Robert Bosch LLC, including on-site leased workers of Bosch Management Services North America, South Haven Community Hospital, Huffmaster Inc., and Williamson Employment Services, St. Joseph, Michigan. The notice will be published soon in the Federal Register.

At the request of the State Agency, the Department reviewed the certification for workers of the subject firm. The workers are engaged in the production of automotive brakes.

The review shows that on September 24, 2007, a certification of eligibility to apply for adjustment assistance was issued for all workers of Robert Bosch LLC, including on-site leased workers of Bosch Management Services North America, South Haven Community Hospital, Huffmaster Inc., and Williamson Employment Services, separated from employment on or after June 9, 2007 through November 28, 2009. The notice was published in the Federal Register on December 11, 2007 (72 FR 70345).

In order to avoid an overlap in worker group coverage, the Department is amending the September 16, 2008 impact date established for TA-W-72,565, to read November 29, 2009.

The amended notice applicable to TA-W-62,337 is hereby issued as follows:

All workers of Robert Bosch LLC, including on-site leased workers of Bosch Management Services North America, South Haven Community Hospital, Huffmaster Inc., and Williamson Employment Services, who became totally or partially separated from employment on or after November 29, 2009, through February 24, 2012, and all workers in the group threatened with total or partial separation from employment on the date of certification through two years from the date of certification, are eligible to apply for adjustment assistance under Chapter 2 of Title II of the Trade Act of 1974, as amended.

Signed in Washington, DC, this 31st day of March 2010.
Michael W. Jaffe
Certifying Officer, Division of Trade Adjustment Assistance.

[FR Doc. 2010-8877 Filed 4-16-10; 8:45 am]

BILLING CODE 4510-FN-P